DEPARTMENT OF DEFENSE

Department of the Navy

Information on Surplus Land at a Military Installation Designated for Disposal: Navy Reserve Center, Duluth, MN

AGENCY: Department of the Navy, DoD.

ACTION: Notice.

SUMMARY: This notice provides information on the surplus property at Navy Reserve Center, Duluth, Minnesota.

FOR FURTHER INFORMATION CONTACT: Ms. Kimberly Kesler, Director, Base Realignment and Closure Program Management Office, 1455 Frazee Road, San Diego, CA 92108-4310, telephone 619-532-0993; or Mr. David Drozd, Director, Base Realignment and Closure Program Management Office, Northeast, 4911 South Broad Street, Philadelphia, PA 19112-1303, telephone 215-897-4909.

SUPPLEMENTARY INFORMATION: In 2005, Navy Reserve Center, Duluth was designated for closure under the authority of the Defense Base Closure and Realignment Act of 1990, Public Law 101-510, as amended (the Act). Pursuant to this designation, on January 23, 2006, land and facilities at this installation were declared excess to the Department of Navy (Navy) and available to other Department of Defense components and other Federal agencies. The Navy has evaluated all timely Federal requests and has made a decision on property required by the Federal Government.

Notice of Surplus Property. Pursuant to paragraph (7)(B) of section 2905(b) of the Act, as amended by the Base Closure Community Redevelopment and Homeless Assistance Act of 1994, the following information regarding the surplus property at Navy Reserve Center, Duluth, Minnesota is published in the Federal Register.

Surplus Property Description. The following is a list of the land and facilities at Navy Reserve Center, Duluth that are surplus to the needs of the Federal Government.

a. Land. Navy Reserve Center, Duluth consists of approximately 1.15 acres of improved and unimproved fee simple land located within St. Louis County and the City of Duluth. An additional 5.27 acres of land are leased from the City of Duluth for air base purposes, and currently utilized as a parking area. In general, all areas will be available when the installation closes in September 2009.

b. Buildings. The following is a summary of the buildings and other improvements located on the above-described land that will also be available when the installation closes. Property numbers are available on request.

(1) Administrative/office facility (2 structures). Comments: Approximately 13,482 square feet.

(2) Maintenance production facility (1 structure). Comments: Approximately 841 square feet, Garage.

(3) Paved areas (other surface areas). Comments: Approximately 6,293 square yards consisting of parking lots, and open storage/vehicle laydown area.

(4) Utility facilities (approximately 4 structures). Comments: measuring systems vary; combined sewer, sanitary sewer, electric, and water.

Disposal Procedures. At such time as a Local Redevelopment Authority (LRA) is recognized in accordance with section 2905(b)(7)(B) of the Act, the Department of Defense will publish in the Federal Register and in a newspaper of general circulation in the communities in the vicinity of the installation information on the LRA.

The LRA will commence a community outreach effort with respect to the surplus property and will publish in a newspaper of general circulation in the communities within the vicinity of Naval Reserve Center Duluth, a notice of the time period during which the LRA will receive notices of interest from State and local governments, representatives of the homeless, and other interested parties. That publication will include the name, address, telephone number, and the point of contact for the LRA who can provide information on the prescribed form and contents of the notices of interest.

Dated: May 3, 2006.
Eric McDonald,
Lieutenant Commander, Judge Advocate General's Corps, U.S. Navy, Federal Register Liaison Officer.

[FR Doc. E6-7079 Filed 5-9-06; 8:45 am]

BILLING CODE 3810-FF-P